DEPARTMENT OF AGRICULTURE

Rural Housing Service

7 CFR Parts 1806, 1822, 1902, 1925, 1930, 1940, 1942, 1944, 1951, 1955, 1956, 1965, 3560, and 3565

RIN 0575-AC13

Reinvention of the Sections 514, 515, 516 and 521 Multi-Family Housing Programs

AGENCY: Rural Housing Service, USDA.

ACTION: Interim final rule; correction.

SUMMARY: The Rural Housing Service is correcting an interim final rule published on November 26, 2004, (69 FR 69032-69176). This action is taken to correct an error regarding the comment period and effective date of the rule as stated in the preamble.

DATES: Effective Date: November 26, 2004.

FOR FURTHER INFORMATION CONTACT: Sue Harris-Green, Deputy Director, Multi-Family Housing Direct Loan Division, Rural Housing Service, U.S. Department of Agriculture, Room 1241, South Building, Stop 0781, 1400 Independence Avenue, SW., Washington, DC 20250-0781, telephone (202) 720-1660.

SUPPLEMENTARY INFORMATION:

Need for Correction

The preamble of the interim final rule lists a comment period and effective date that conflicts with the DATES section. This document corrects that information.

Correction of Publication

In the interim rule document published November 26, 2004, (69 FR 69032-69176), make the following correction.

On page 69034, third column, revise the “Discussion of the Interim Final Rule” section to read as follows:

Discussion of the Interim Final Rule

This interim final rule combines the provisions of the Streamlining and Consolidation of the sections 514, 515, 516, and 521 Multi-Family Housing (MFH) Programs Proposed Rule published on June 2, 2003, and the Operating Assistance for Off-Farm Migrant Farmworker Projects Proposed Rule published on November 2, 2000.

RHS is issuing this regulation as an interim final rule, with an effective date 90 days after publication in the Federal Register, given that these regulatory changes are very extensive, affect all aspects of the programs, and seek to achieve significant streamlining of the programs' regulatory provisions. Delaying implementation of the rule to allow more time for further consideration would not be in the best interest of the direct MFH program or its recipients. All provisions of this regulation are adopted on an interim final basis, are subject to a 30-day comment period, and will remain in effect until the Agency adopts a final rule.

Dated: December 3, 2004.
Gilbert Gonzalez,
Acting Under Secretary, Rural Development.

[FR Doc. 04-27604 Filed 12-16-04; 8:45 am]

BILLING CODE 3410-XV-P